DEPARTMENT OF DEFENSE

GENERAL SERVICES ADMINISTRATION

NATIONAL AERONAUTICS AND SPACE ADMINISTRATION

48 CFR Parts 5, 12, 19, and 52

[FAC 2005-07; FAR Case 2005-013; Item V]

RIN 9000-AK36

Federal Acquisition Regulation; Deletion of the Very Small Business Pilot Program

AGENCIES: Department of Defense (DoD), General Services Administration (GSA), and National Aeronautics and Space Administration (NASA).

ACTION: Final rule.

SUMMARY: The Civilian Agency Acquisition Council and the Defense Acquisition Regulations Council (Councils) have agreed on a final rule amending the Federal Acquisition Regulation (FAR) to delete the Very Small Business Pilot Program. Under the pilot program, contracting officers were required to set-aside for very small business concerns certain acquisitions with an anticipated dollar value between $2,500 and $50,000. The Councils removed the FAR provisions because the legislative authority for the program terminated on September 30, 2003.

DATES: Effective Date: January 3, 2006.

FOR FURTHER INFORMATION CONTACT: For clarification of content, contact Ms. Rhonda Cundiff, Procurement Analyst, at (202) 501-0044. Please cite FAC 2005-07, FAR case 2005-013. For information pertaining to status or publication schedules, contact the FAR Secretariat at (202) 501-4755.

SUPPLEMENTARY INFORMATION:

A. Background

The Very Small Business Pilot Program was established by Section 304 of the Small Business Administration Reauthorization and Amendments Act of 1994 (Public Law 103-403). Very small business concern means a small business concern whose headquarters is located within the geographic area served by a designated SBA district and which, together with its affiliates, has no more than 15 employees and has average annual receipts that do not exceed $1 million. The purpose of the program was to improve access to Government contract opportunities for concerns that were substantially below the Small Business Administration's size standards by reserving certain acquisitions for competition among such concerns. The Councils are removing the FAR provisions because the legislative authority for the program terminated on September 30, 2003.

This is not a significant regulatory action and, therefore, was not subject to review under Section 6(b) of Executive Order 12866, Regulatory Planning and Review, dated September 30, 1993. This rule is not a major rule under 5 U.S.C. 804.

B. Regulatory Flexibility Act

The Regulatory Flexibility Act, 5 U.S.C. 601, et seq., applies to this final rule. The Councils prepared a Final Regulatory Flexibility Analysis (FRFA), and it is summarized as follows:

The Very Small Business Pilot Program was established by section 304 of Public Law 103-403, codified as a Note to the Small Business Act, “15 USC 644 Note” and was extended by Section 503 of Public Law 106-554 until September 30, 2003. The program has expired. Therefore, the Federal Acquisition Regulation is amended to reserve Subpart 19.9, Very Small Business Pilot Program, and delete other references to the program throughout the FAR. The changes will have an economic impact on a small number of small entities within the meaning of the Regulatory Flexibility Act, 5 U.S.C. 601 et seq., because the law required contracting officers to set-aside for very small business concerns acquisitions with an anticipated dollar value exceeding $2,500 but not greater than $50,000 if the contracting office is located within the geographical area served by a designated SBA district (for supplies), or in the case of an acquisition for services, the contract will be performed within the geographical area served by a designated SBA district; and there is a reasonable expectation of obtaining offers from two or more responsible very small business concerns in the designated areas.

Interested parties may obtain a copy of the FRFA from the FAR Secretariat. The FAR Secretariat has submitted a copy of the FRFA to the Chief Counsel for Advocacy of the Small Business Administration.

C. Paperwork Reduction Act

The Paperwork Reduction Act does not apply because the changes to the FAR do not impose information collection requirements that require the approval of the Office of Management and Budget under 44 U.S.C. 3501, et seq.

List of Subjects in 48 CFR Parts 5, 12, 19, and 52

Government procurement.

Dated: December 22, 2005.
Gerald Zaffos,
Director, Contract Policy Division.

Therefore, DoD, GSA, and NASA amend 48 CFR parts 5, 12, 19, and 52 as set forth below:

1. The authority citation for 48 CFR parts 5, 12, 19, and 52 continues to read as follows:

Authority: 40 U.S.C. 121(c); 10 U.S.C. chapter 137; and 42 U.S.C. 2473(c).

PART 5—PUBLICIZING CONTRACT ACTIONS

5.207 [Amended]

2. Amend section 5.207 by removing paragraph (c)(18) and redesignating paragraph (c)(19) as (c)(18); and by removing from paragraph (d) “very small business set-aside,”.

PART 12—ACQUISITION OF COMMERCIAL ITEMS

12.303 [Amended]

3. Amend section 12.303 by removing from paragraph (b)(1) “, or set-aside for very small business concerns”.

PART 19—SMALL BUSINESS PROGRAMS

19.000 [Amended]

4. Amend section 19.000 by removing from paragraph (a)(10) “The Very Small Business Pilot Program;” and adding “[Reserved]” in its place.

19.001 [Amended]

5. Amend section 19.001 by removing the definition “Very small business concern”.

19.102 [Amended]

6. Amend section 19.102 by removing paragraph (g) and redesignating paragraph (h) as paragraph (g).

19.502-2 [Amended]

7. Amend section 19.502-2 by removing from the first sentence of paragraph (a) “Except for those acquisitions set aside for very small business concerns (see Subpart 19.9), each” and adding “Each” in its place.

Subpart 19.9—[Removed]

8. Subpart 19.9 is removed and reserved.

PART 52—SOLICITATION PROVISIONS AND CONTRACT CLAUSES

9. Amend section 52.212-5 by revising the date of the clause and paragraph (b)(4) of the clause to read as follows:

52.212-5 Contract Terms and Conditions Required to Implement Statutes or Executive Orders—Commercial Items.

* * * * *

CONTRACT TERMS AND CONDITIONS REQUIRED TO IMPLEMENT STATUTES OR EXECUTIVE ORDERS—COMMERCIAL ITEMS (JAN 2006)

* * * * *

(b) * * *

(4) [Removed]

* * * * *

52.219-5 [Removed]

10. Section 52.219-5 is removed and reserved.

[FR Doc. 05-24550 Filed 12-30-05; 8:45 am]

BILLING CODE 6820-EP-S